DEPARTMENT OF TRANSPORTATION

Federal Aviation Administration

14 CFR Part 71

[Docket No. FAA-2022-0712; Airspace Docket No. 22-ACE-1]

RIN 2120-AA66

Amendment and Revocation of Multiple Air Traffic Service (ATS) Routes; Establishment of Area Navigation (RNAV) Route; and Revocation of the Pawnee City, NE, Low Altitude Reporting Point in the Vicinity of Pawnee City, NE

AGENCY: Federal Aviation Administration (FAA), DOT.

ACTION: Final rule.

SUMMARY: This action amends Jet Route J-64, VHF Omnidirectional Range (VOR) Federal airways V-50, V-71, V-216, and V-307, and Area Navigation (RNAV) route T-286; establishes RNAV route T-468; and revokes J-130, J-192, V-553, and the Pawnee City, NE, low altitude reporting point. The FAA is taking this action due to the planned decommissioning of the VOR portion of the Pawnee City, NE, VOR/Tactical Air Navigation (VORTAC) navigational aid (NAVAID). The Pawnee City VOR is being decommissioned in support of the FAA's VOR Minimum Operational Network (MON) program.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2022-0712 in the Federal Register (87 FR 35133; June 9, 2022), amending Jet Route J-64, VOR Federal airways V-50, V-71, V-216, and V-307, and RNAV route T-286; establishing RNAV route T-468; and revoking J-130, J-192, V-553, and the Pawnee City, NE, low altitude reporting point. The proposed actions were due to the planned decommissioning of the VOR portion of the Pawnee City, NE, VORTAC NAVAID. Interested parties were invited to participate in this rulemaking effort by submitting written comments on the proposal. No comments were received.

Jet Routes are published in paragraph 2004, VOR Federal airways are published in paragraph 6010(a), United States Area Navigation Routes are published in paragraph 6011, and Domestic Low Altitude Reporting Points are published in paragraph 7001 of FAA Order JO 7400.11G, dated August 19, 2022, and effective September 15, 2022, which is incorporated by reference in 14 CFR 71.1. The ATS route and reporting point actions listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending Jet Route J-64, VOR Federal airways V-50, V-71, V-216, and V-307, and RNAV route T-286; establishing RNAV route T-468; and revoking J-130, J-192, V-553, and the Pawnee City, NE, low altitude reporting point due to the planned decommissioning of the Pawnee City, NE, VOR. The ATS route and low altitude reporting point actions are described below.

J-64: J-64 extends between the Los Angeles, CA, VORTAC and the intersection of the Ravine, PA, VORTAC 102° and Lancaster, PA, VOR/Distance Measuring Equipment (VOR/DME) 044° radials (SARAA Fix). The route segment overlying the Pawnee City, NE, VORTAC between the Hill City, KS, VORTAC and the Lamoni, IA, VOR/DME is removed. As amended, the route is changed to extend between the Los Angeles, CA, VORTAC and the Hill City, KS, VORTAC and between the Lamoni, IA, VOR/DME and the intersection of the Ravine, PA, VORTAC 102° and Lancaster, PA, VOR/DME 044° radials (SARAA Fix).

J-130: J-130 extends between the McCook, NE, VOR/DME and the Pawnee City, NE, VORTAC. The route is removed in its entirety.

J-192: J-192 extends between the Goodland, KS, VORTAC and the Iowa City, IA, VOR/DME. The route is removed in its entirety.

V-50: V-50 extends between the Hastings, NE, VOR/DME and the Dayton, OH, VOR/DME. The airway segment overlying the Pawnee City VORTAC between the Hastings, NE, VOR/DME and the St Joseph, MO, VORTAC is removed. As amended, the airway is changed to extend between the St Joseph, MO, VORTAC and the Dayton, OH, VOR/DME.

V-71: V-71 extends between the Fighting Tiger, LA, VORTAC and the O'Neill, NE, VORTAC and between the Pierre, SD, VORTAC and the Williston, ND, VOR/DME. The airway segment overlying the Pawnee City VORTAC between the Topeka, KS, VORTAC and the Lincoln, NE, VORTAC is removed. As amended, the airway is changed to extend between the Fighting Tiger, LA, VORTAC and the Tokepa, KS, VORTAC; between the Lincoln, NE, VORTAC and the O'Neill, NE, VORTAC; and between the Pierre, SD, VORTAC and the Williston, ND, VOR/DME.

V-216: V-216 extends between the Lamar, CO, VOR/DME and the Janesville, WI, VOR/DME. The airway segment overlying the Pawnee City VORTAC between the Mankato, KS, VORTAC and the Lamoni, IA, VOR/DME is removed. As amended, the airway is changed to extend between the Lamar, CO, VOR/DME and the Mankato, KS, VORTAC; and between the Lamoni, IA, VOR/DME and the Janesville, WI, VOR/DME.

V-307: V-307 extends between the Chanute, KS, VORTAC and the Omaha, IA, VORTAC. The airway segment overlying the Pawnee City VORTAC between the Emporia, KS, VORTAC and the Omaha, IA, VORTAC is removed. As amended, the airway is changed to extend between the Chanute, KS, VORTAC and the Emporia, KS, VORTAC.

V-553: V-553 extends between the Salina, KS, VORTAC and the Pawnee City, KS, VORTAC. The airway is removed in its entirety.

T-286: T-286 extends between the Rapid City, SD, VORTAC and the BOWLR, KS, Fix. The Pawnee City, NE, VORTAC is replaced by the HTHWY, NE, waypoint (WP) being established in close proximity of the Pawnee City VORTAC; the EFFEX, NE, Fix is removed from the route description since it does not denote a route turn point; and the route is extended northward to the FONIA, ND, Fix via the JELRO, SD, Fix and the Dickenson, ND, VORTAC. The amended route provides RNAV routing between the Williston, ND, area and the Atchison, KS, area. The full route description is listed in the amendments to part 71 as set forth below.

T-468: T-468 is a new RNAV route that extends between the Hill City, KS, VORTAC and the LEWRP, MO, WP. This new T-route provides RNAV routing between the Hill City, KS, area eastward to the Kirksville, MO, area via the KNSAS, KS, WP being established and the Lamoni, IA, VOR/DME. The full route description is listed in the amendments to part 71 as set forth below.

Pawnee City, NE: The Pawnee City, NE, low altitude reporting point is removed as it is no longer required by air traffic control as a result of the Pawnee City VOR being decommissioned.

All NAVAID radials listed in the ATS route descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending Jet Route J-64, VOR Federal airways V-50, V-71, V-216, and V-307, and RNAV route T-286; establishing RNAV route T-468; and revoking J-130, J-192, V-553, and the Pawnee City, NE, low altitude reporting point, due to the planned decommissioning of the VOR portion of the Pawnee City, NE, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points) and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-64 [Amended]

From Los Angeles, CA; INT Los Angeles 083° and Hector, CA, 226° radials; Hector; Peach Springs, AZ; Tuba City, AZ; Rattlesnake, NM; Pueblo, CO; to Hill City, KS. From Lamoni, IA; Bradford, IL; INT Bradford 089° and Fort Wayne, IN, 280° radials; Fort Wayne; Ellwood City, PA; Ravine, PA; to INT Ravine 102° and Lancaster, PA, 044° radials.

* * * * *

J-130 [Removed]

* * * * *

J-192 [Removed]

* * * * *

Paragraph 6010(a) Domestic VOR Federal Airways.

* * * * *

V-50 [Amended]

From St. Joseph, MO; Kirksville, MO; Quincy, IL; Spinner, IL; Adders, IL; Terre Haute, IN; Brickyard, IN; to Dayton, OH.

* * * * *

V-71 [Amended]

From Fighting Tiger, LA; Natchez, MS; Monroe, LA; El Dorado, AR; Hot Springs, AR; INT Hot Springs 358° and Harrison, AR, 176° radials; Harrison; Springfield, MO; Butler, MO; to Topeka, KS. From Lincoln, NE; Columbus, NE; to O'Neill, NE. From Pierre, SD; Bismarck, ND; to Williston, ND.

* * * * *

V-216 [Amended]

From Lamar, CO; Hill City, KS; to Mankato, KS. From Lamoni, IA; Ottumwa, IA; Iowa City, IA; INT Iowa City 062° and Janesville, WI, 240° radials; to Janesville.

* * * * *

V-307 [Amended]

From Chanute, KS; to Emporia, KS.

* * * * *

V-553 [Removed]

* * * * *

Paragraph 6011 United States Area Navigation Routes.

* * * * *

T-286 FONIA, ND TO BOWLR, KS [Amended]
FONIA, ND | FIX | (Lat. 48°15′35.07″ N, long. 103°10′37.54″ W)
Dickinson, ND (DIK) | VORTAC | (Lat. 46°51′36.14″ N, long. 102°46′24.60″ W)
JELRO, SD | FIX | (Lat. 45°48′43.83″ N, long. 102°51′46.96″ W)
Rapid City, SD (RAP) | VORTAC | (Lat. 43°58′33.74″ N, long. 103°00′44.38″ W)
Gordon, NE (GRN) | NDB | (Lat. 42°48′03.90″ N, long. 102°10′45.82″ W)
Thedford, NE (TDD) | VOR/DME | (Lat. 41°58′53.99″ N, long. 100°43′08.52″ W)
BOKKI, NE | FIX | (Lat. 41°39′54.99″ N, long. 099°52′17.00″ W)
Grand Island, NE (GRI) | VOR/DME | (Lat. 40°59′02.50″ N, long. 098°18′53.20″ W)
HTHWY, NE | WP | (Lat. 40°12′01.96″ N, long. 096°12′22.51″ W)
Robinson, KS (RBA) | DME | (Lat. 39°51′03.00″ N, long. 095°25′23.00″ W)
BOWLR, KS | FIX | (Lat. 39°37′21.29″ N, long. 095°11′00.26″ W)
* * * * * * *
T-468 Hill City, KS (HLC) to LEWRP, MO [New]
Hill City, KS (HLC) to LEWRP, MO [New] | VORTAC | (Lat. 39°15'31.49′ N, long. 100°13'33.06″ N, long.W)
KNSAS, KS | WP | (Lat. 39°48'22.62′ N, long. 098°15'36.62″ N, long.W)
Lamoni, IA (LMN) | VOR/DME | (Lat. 40°35'48.35′ N, long. 093°58'03.33″ N, long.W)
LEWRP, MO | WP | (Lat. 40°08'06.06′ N, long. 092°35'30.15″ N, long.W)

Paragraph 7001, Domestic Low Altitude Reporting Points.

* * * * *

Pawnee City, NE [Removed]

* * * * *

Issued in Washington, DC, on December 5, 2022.
Scott M. Rosenbloom,
Manager, Airspace Rules and Regulations.

[FR Doc. 2022-26739 Filed 12-9-22; 8:45 am]

BILLING CODE 4910-13-P